SECURITIES AND EXCHANGE COMMISSION

[File No. 500-1]

Order of Suspension of Trading; East Delta Resources Corp.

January 13, 2010.

It appears to the Securities and Exchange Commission that there is a lack of current and accurate information concerning the securities of East Delta Resources Corp. (“East Delta”) because it has not filed any periodic reports since the period ended September 30, 2008.

The Commission is of the opinion that the public interest and the protection of investors require a suspension of trading in the securities of East Delta.

Therefore, it is ordered, pursuant to Section 12(k) of the Securities Exchange Act of 1934, that trading in the securities of East Delta is suspended for the period from 9:30 a.m. EST on January 13, 2010, through 11:59 p.m. EST on January 27, 2010.

By the Commission.
Jill M. Peterson,
Assistant Secretary.

[FR Doc. 2010-833 Filed 1-15-10; 8:45 am]

BILLING CODE 8011-01-P